DEPARTMENT OF ENERGY

Federal Energy Regulatory Commission

[Docket No. RP96-331-017]

National Fuel Gas Supply Corporation; Notice of Compliance Filing

March 12, 2003.

Take notice that on March 7, 2003, National Fuel Gas Supply Corporation (National Fuel) tendered for filing as part of its FERC Gas Tariff, Fourth Revised Volume No. 1, Second Revised Sheet No. 478, with an effective date of April 1, 2003.

National Fuel states that the purpose of this filing is to submit for Commission review and acceptance four non-conforming service agreements and the tariff revision identifying these agreements. The agreements contain provisions which deviate from the Form of Service Agreement for Firm Storage Transportation and Firm Storage Service contained in National Fuel's Volume No. 1 Tariff in the following areas: rate, term, and miscellaneous.

National Fuel states that copies of this filing were served upon its customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 19, 2003.

Magalie R. Salas,
Secretary.

[FR Doc. 03-6541 Filed 3-18-03; 8:45 am]

BILLING CODE 6717-01-P